DEPARTMENT OF ENERGY

Federal Energy Regulatory Commission

[Docket No. RP01-240-001]

ANR Pipeline Company; Notice of Compliance Filing

May 10, 2001.

Take notice that on April 17, 2001, ANR Pipeline Company (ANR) tendered for filing its responses to the comments of the Wisconsin Distributor Group (WDG), regarding ANR's quarterly filing for recovery of its Dakota Gasification costs, in the above-captioned docket.

ANR states that the filing is being made in compliance with the Commission's Letter Order issued on March 28, 2001,¹ in the above referenced proceeding, which directed ANR to respond to WDG's questions and concerns within 20 days of the date of the order.

¹ 94 FERC ¶ 61,345 (2001).

ANR states that copies of the filing have been served upon each person designated on the official service list complied by the Secretary in this proceeding.

Any person desiring to protest or file comments to said filing should file a protest or comments with the Federal Energy Regulatory Commission, 888 First Street, NE., Washington, DC 20426, in accordance with Section 385.211 of the Commission's Rules and Regulations. All such protests or comments must be filed on or before May 17, 2001. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-12295 Filed 5-15-01; 8:45 am]

BILLING CODE 6717-01-M